DEPARTMENT OF TRANSPORTATION

Pipeline and Hazardous Materials Safety Administration

[Docket ID PHMSA-RSPA-2003-15852]

Pipeline Safety: Workshop on Public Awareness Programs for Pipeline Operators and Location of Line Markers

AGENCY: Pipeline and Hazardous Materials Safety Administration (PHMSA), DOT.

ACTION: Notice of workshop.

SUMMARY: PHMSA will host a workshop to provide stakeholders with an update on public awareness programs for pipeline operators and to discuss the location of line markers. On the first day, PHMSA will share the findings from its review of written public awareness programs. The workshop will also include discussion of potential revisions to the first edition of the American Petroleum Institute (API) Recommended Practice (RP) 1162. Pipeline operators will also share some lessons learned from their implementation of public awareness programs based on RP 1162. On the second day, PHMSA will lead a discussion on the location of line markers.

DATES: The workshop will be held on February 20-21, 2008.

ADDRESSES: The workshop will be held at the Hotel Derek, 2525 West Loop South, Houston, TX 77027. Hotel reservations under the Department of Transportation room block can be made at (713) 297-4323. The meeting room will be posted at the hotel on the day of the workshop.

FOR FURTHER INFORMATION CONTACT: Blaine Keener at (202) 366-0970, or by e-mail at blaine.keener@dot.gov.

SUPPLEMENTARY INFORMATION: Registration: Members of the public may attend this free workshop. To register for a workshop, select Public Awareness and Pipeline Marker Workshop from http://primis.phmsa.dot.gov/meetings/. Hotel reservations must be made by contacting the hotel directly.

Web Casting: The part of the workshop on public awareness programs will be web cast and available for viewing for two months after the workshop. The web cast will be accessible at http://primis.phmsa.dot.gov/comm/PublicAwarenessWorkshops.htm.

Background on public awareness programs: Between August 8, 2006, and October 15, 2007, pipeline operators submitted 1,568 public awareness programs to PHMSA for a centralized review. Public awareness programs are required by 49 CFR 192.616 and 49 CFR 195.440 to improve awareness of pipeline safety with four stakeholder audiences: the affected public, emergency officials, local public officials, and excavators. These regulations require operators to follow the guidance of API RP 1162, Public Awareness Programs for Pipeline Operators, First Edition, December 2003.

The review examined each program to determine whether it followed the recommendations of API RP 1162. Aspects of the program that deviated from the recommendation in API RP 1162 were sent to the appropriate pipeline safety agency or agencies for resolution with the pipeline operator. PHMSA will present summary statistics from the centralized review of the programs.

The API typically publishes new editions of recommended practices every five years. The workshop will include discussion about potential revisions to API RP 1162 for the second edition.

The recommendations in API RP 1162 have led some pipeline operators to develop new and innovative approaches to improving pipeline safety awareness among the stakeholder audiences. The workshop will provide pipeline operators with an opportunity to share lessons learned from implementing new ideas.

Background on line markers: The pipeline safety regulations require the use of line markers to alert the public as to the presence of buried pipelines. The regulation applicable to gas pipelines is found at 49 CFR 192.707. The regulation applicable to hazardous liquid pipelines is found at 49 CFR 195.410. The workshop will include discussion about the appropriate interval between markers and conditions which make it impractical to use markers.

Issued in Washington, DC, on December 21, 2007.
Jeffrey D. Wiese,
Associate Administrator for Pipeline Safety.

[FR Doc. E7-25433 Filed 12-31-07; 8:45 am]

BILLING CODE 4910-60-P